DEPARTMENT OF COMMERCE

National Oceanic and Atmospheric Administration

[I.D. 112803C]

RIN 0648-AR74

Fisheries of the Exclusive Economic Zone Off Alaska; Rebuilding Overfished Fisheries; Correction

AGENCY: National Marine Fisheries Service (NMFS), National Oceanic and Atmospheric Administration (NOAA), Commerce.

ACTION: Correction to a notice.

SUMMARY: This document corrects a notice published in the Federal Register on April 5, 2004, announcing the approval of Amendment 17 to the Fishery Management Plan for Bering Sea and Aleutian Islands King and Tanner Crabs. This action is necessary to correct an error made regarding the approval date of the amendment. All other information remains unchanged.

FOR FURTHER INFORMATION CONTACT: Gretchen Harrington, 907-586-7228 or gretchen.harrington@noaa.gov.

SUPPLEMENTARY INFORMATION: NMFS published a notice announcing the approval of Amendment 17 to the Fishery Management Plan for Bering Sea and Aleutian Islands King and Tanner Crabs on April 5, 2004 (69 FR 17651, FR Doc. 04-7509). While the amendment was approved on March 11, 2004, the notice announced an approval date of March 18, 2004. This action corrects this error.

Correction

In the Federal Register of April 5, 2004, in FR Doc. 04-7509, on page 17651, in the first column, correct the “Dates” caption to read:

DATES: The amendment was approved on March 11, 2004.

Also, on page 17652, in the first column, under the heading Response to Comments, in response 5, lines 9 and 10, “March 18, 2004.” is corrected to read “March 11, 2004.”

Dated: April 7, 2004.
Alan D. Risenhoover,
Acting Director, Office of Sustainable Fisheries, National Marine Fisheries Service.

[FR Doc. 04-8384 Filed 4-12-04; 8:45 am]

BILLING CODE 3510-22-S